DEPARTMENT OF HEALTH AND HUMAN SERVICES

Administration for Children and Families

Statement of Organization, Functions, and Delegations of Authority

This notice amends Part K of the Statement of Organization, Functions, and Delegations of Authority of the Department of Health and Human Services (DHHS), Administration for Children and Families (ACF) as follows: Chapter KR, the Office of Refugee Resettlement (ORR), as last amended, July 15, 2002. This notice reflects the establishment of a new Division to incorporate the functions under the immigration laws of the United States, with respect to the care of unaccompanied alien children that were vested by statute in, or performed by, the Commissioner of the Immigration and Naturalization Service which were transferred to the Office of Refugee Resettlement by the Homeland Security Act of 2002, Public Law 107-296.

1. This Chapter is amended as follows:

A. KR.10 Organization. Delete in its entirety and replace with the following:

KR.10 Organization. The Office of Refugee Resettlement is headed by a Director who reports directly to the Assistant Secretary for Children and Families and consists of: Office of the Director (KRA), Division of Refugee Assistance (KRE), Division of Community Resettlement (KRF), Division of Budget, Policy and Data Analysis (KRG), Division of Unaccompanied Children's Services (KRH).

B. Delete KR.20 Functions, Paragraph A, Office of the Director in its entirety and replace with the following:

KR.20 Functions. A. The Office of the Director is directly responsible to the Assistant Secretary for Children and Families for carrying out ORR's mission and providing guidance and general supervision to the components of ORR. The Office provides direction in the development of program policy and budget and in the formulation of salaries and expense budgets. Staff also provide administrative and personnel support services. The Office is responsible for implementing certain provisions of the Trafficking Victims Protection Act.

The Office coordinates with the lead refugee and entrant program offices of other federal departments; provides leadership in representing refugee and entrant programs, policies and administration to a variety of governmental entities and other public and private interests; and acts as the coordinator of the total refugee and entrant resettlement effort for ACF and the Department. The Office coordinates the certification of, and services to, victims of severe forms of trafficking. It also coordinates with other Federal government agencies on certification activities and policy issues related to the trafficking law. In consultation with appropriate juvenile justice professionals and Federal immigration services and border security agencies, the Director makes placement determinations and coordinates care and placement services for unaccompanied alien children who are in Federal custody by reason of their immigration status.

C. Establish KR.20 Functions, Paragraph E, the Division of Unaccompanied Children's Services.

E. The Division of Unaccompanied Children's Services develops programs and guidance for the coordination and implementation of care and placement services for unaccompanied alien children who are in Federal custody by reason of their immigration status. The Division recommends placement determinations to the Director in consultation with appropriate juvenile justice professionals and Federal immigration services and border security agencies. The Division ensures consideration of the child's best interest in care and custody decisions. It implements placement decisions, develops facilities for care through grants and contracts, and utilizes the foster care system in place for unaccompanied refugee children. The Division, working with other Federal agencies, reunites children with a parent abroad in appropriate cases. The Division conducts investigations and inspections of facilities and placement locations in which unaccompanied children reside. The Division compiles, and updates at least annually, a state-by-state list of professionals or entities qualified to provide the children guardian and attorney representation services. The Division prepares a plan to be submitted to Congress on how to ensure timely appointment of such representation. The Division also maintains statistical information and data on each child, and any actions concerning the child taken by relevant Federal entities while the child is under the Director's care.

Dated: February 28, 2003.
Tommy G. Thompson,
Secretary.

[FR Doc. 03-5720 Filed 3-10-03; 8:45 am]

BILLING CODE 4184-01-P